DEPARTMENT OF TRANSPORTATION

Federal Motor Carrier Safety Administration

[Docket No. FMCSA-2013-0021]

Qualification of Drivers; Exemption Applications; Vision

AGENCY: Federal Motor Carrier Safety Administration (FMCSA), DOT.

ACTION: Notice of applications for exemptions; request for comments.

SUMMARY: FMCSA announces receipt of applications from 8 individuals for exemption from the vision requirement in the Federal Motor Carrier Safety Regulations. They are unable to meet the vision requirement in one eye for various reasons. The exemptions will enable these individuals to operate commercial motor vehicles (CMVs) in interstate commerce without meeting the prescribed vision requirement in one eye. If granted, the exemptions would enable these individuals to qualify as drivers of commercial motor vehicles (CMVs) in interstate commerce.

DATES: Comments must be received on or before March 15, 2013.

ADDRESSES: You may submit comments bearing the Federal Docket Management System (FDMS) Docket No. FMCSA-2013-0021 using any of the following methods:

• Federal eRulemaking Portal: Go to http://www.regulations.gov. Follow the on-line instructions for submitting comments.

• Mail: Docket Management Facility; U.S. Department of Transportation, 1200 New Jersey Avenue SE., West Building Ground Floor, Room W12-140, Washington, DC 20590-0001.

• Hand Delivery: West Building Ground Floor, Room W12-140, 1200 New Jersey Avenue SE., Washington, DC, between 9 a.m. and 5 p.m., Monday through Friday, except Federal Holidays.

• Fax: 1-202-493-2251.

Instructions: Each submission must include the Agency name and the docket numbers for this notice. Note that all comments received will be posted without change to http://www.regulations.gov, including any personal information provided. Please see the Privacy Act heading below for further information.

Docket: For access to the docket to read background documents or comments, go to http://www.regulations.gov at any time or Room W12-140 on the ground level of the West Building, 1200 New Jersey Avenue SE., Washington, DC, between 9 a.m. and 5 p.m., Monday through Friday, except Federal holidays. The FDMS is available 24 hours each day, 365 days each year. If you want acknowledgment that we received your comments, please include a self-addressed, stamped envelope or postcard or print the acknowledgement page that appears after submitting comments on-line.

Privacy Act: Anyone may search the electronic form of all comments received into any of our dockets by the name of the individual submitting the comment (or of the person signing the comment, if submitted on behalf of an association, business, labor union, etc.). You may review DOT's Privacy Act Statement for the Federal Docket Management System (FDMS) published in the Federal Register on December 29, 2010 (75 FR 82132), or you may visit http://www.gpo.gov/fdsys/pkg/FR-2010-12-29/pdf/2010-32876.pdf.

FOR FURTHER INFORMATION CONTACT: Elaine M. Papp, Chief, Medical Programs Division, (202) 366-4001, fmcsamedical@dot.gov, FMCSA, Department of Transportation, 1200 New Jersey Avenue SE., Room W64-224, Washington, DC 20590-0001. Office hours are from 8:30 a.m. to 5 p.m., Monday through Friday, except Federal holidays.

SUPPLEMENTARY INFORMATION:

Background

Under 49 U.S.C. 31136(e) and 31315, FMCSA may grant an exemption from the Federal Motor Carrier Safety Regulations for a 2-year period if it finds “such exemption would likely achieve a level of safety that is equivalent to or greater than the level that would be achieved absent such exemption.” FMCSA can renew exemptions at the end of each 2-year period. The 8 individuals listed in this notice have each requested such an exemption from the vision requirement in 49 CFR 391.41(b)(10), which applies to drivers of CMVs in interstate commerce. Accordingly, the Agency will evaluate the qualifications of each applicant to determine whether granting an exemption will achieve the required level of safety mandated by statute.

Qualifications of Applicants

Michael L. Bergman

Mr. Bergman, age 56, has a prosthetic right eye due to a traumatic incident in 2009. The best corrected visual acuity in his left eye is 20/20. Following an examination in 2012, his optometrist noted, “I believe that Mike's vision is sufficient to perform the driving tasks required to operate a commercial vehicle.” Mr. Bergman reported that he has driven straight trucks for 37 years, accumulating 74,000 miles, and tractor-trailer combinations for 25 years, accumulating 250,000 miles. He holds a Class A Commercial Driver's License (CDL) from Kansas. His driving record for the last 3 years shows no crashes and no convictions for moving violations in a CMV.

Efrain Gonzalez

Mr. Gonzalez, 52, has had amblyopia in his left eye since birth. The visual acuity in his right eye is 20/20, and in his left eye, 20/70. Following an examination in 2012, his optometrist noted, “At this time, Mr. Gonzalez has sufficient vision to safely operate a commercial motor vehicle.” Mr. Gonzalez reported that he has driven straight trucks for 12 years, accumulating 360,000 miles. He holds a Class A CDL from Utah. His driving record for the last 3 years shows no crashes and no convictions for moving violations in a CMV.

Anthony Hall

Mr. Hall, 43, has had a retinal vein occlusion in his right eye since 2003. The visual acuity in his right eye is no light perception, and in his left eye, 20/20. Following an examination in 2012, his ophthalmologist noted, “In my opinion, the patient has full fields of his left eye and 20/20 vision in his left eye. He is capable of operating a commercial vehicle.” Mr. Hall reported that he has driven tractor-trailer combinations for 13 years, accumulating 1.2 million miles. He holds a Class A CDL from Louisiana. His driving record for the last 3 years shows no crashes and no convictions for moving violations in a CMV.

Shane Holum

Mr. Holum, 32, has had optic nerve atrophy in his right eye since 2002 due to a traumatic incident. The best corrected visual acuity in his right eye is light perception, and in his left eye, 20/20. Following an examination in 2012, his optometrist noted, “In my opinion he has sufficient vision to drive and operate a commercial vehicle.” Mr. Holum reported that he has driven straight trucks for 4 years, accumulating 16,000 miles. He holds a Class A CDL from Oregon. His driving record for the last 3 years shows no crashes and no convictions for moving violations in a CMV.

Daryl W. Morris

Mr. Morris, 70, has had optic nerve atrophy in his left eye since 1992. The best corrected visual acuity in his right eye is 20/20, and in his left eye, no light perception. Following an examination in 2012, his optometrist noted, “I want to certify in my medical opinion that Mr. Morris has sufficient vision to perform the driving task required to operate a commercial vehicle.” Mr. Morris reported that he has driven straight trucks for 8 years, accumulating 80,000 miles. He holds a Class A CDL from Missouri. His driving record for the last 3 years shows no crashes and no convictions for moving violations in a CMV.

Dan Nestel

Mr. Nestel, 53, has had a ruptured globe in his right eye due to a traumatic incident in 2009. The best corrected visual acuity in his right eye is counting fingers, and in his left eye, 20/20. Following an examination in 2012, his ophthalmologist noted, “In my medical opinion Mr. Nestel does have sufficient vision to perform the driving tasks required to operate a commercial vehicle.” Mr. Nestel reported that he has driven tractor-trailer combinations for 25 years, accumulating 1.2 million miles. He holds a Class A CDL from Indiana. His driving record for the last 3 years shows no crashes and no convictions for moving violations in a CMV.

Thomas G. Normington

Mr. Normington, 47, has a prosthetic right eye due to a traumatic incident in 1986. The best corrected visual acuity in his left eye is 20/15. Following an examination in 2012, his optometrist noted, “In my opinion, Mr. Normington has sufficient vision to perform the driving tasks required to safely operate a commercial vehicle.” Mr. Normington reported that he has driven straight trucks for 14 years, accumulating 280,000 miles, and tractor-trailer combinations for 14 years, accumulating 140,000 miles. He holds a Class A CDL from Wyoming. His driving record for the last 3 years shows no crashes and no convictions for moving violations in a CMV.

Thomas L. Terrell

Mr. Terrell, 57, has had a chronic retinal detachment in his left eye due to a traumatic incident in 1984. The best corrected visual acuity in his right eye is 20/20, and in his left eye, no light perception. Following an examination in 2012, his ophthalmologist noted, “He has sufficient vision in his right eye and unless he has some future problem in the right eye, he should have no problems performing his duties of operating a commercial vehicle.” Mr. Terrell reported that he has driven straight trucks for 39 years, accumulating 78,000 miles, and tractor-trailer combinations for 39 years, accumulating 273,000 miles. He holds a Class A CDL from Iowa. His driving record for the last 3 years shows no crashes and no convictions for moving violations in a CMV.

Request for Comments

In accordance with 49 U.S.C. 31136(e) and 31315, FMCSA requests public comment from all interested persons on the exemption petitions described in this notice. The Agency will consider all comments received before the close of business March 15, 2013. Comments will be available for examination in the docket at the location listed under the ADDRESSES section of this notice. The Agency will file comments received after the comment closing date in the public docket, and will consider them to the extent practicable.

In addition to late comments, FMCSA will also continue to file, in the public docket, relevant information that becomes available after the comment closing date. Interested persons should monitor the public docket for new material.

Issued on: February 4, 2013.
Larry W. Minor,
Associate Administrator for Policy.

[FR Doc. 2013-03337 Filed 2-12-13; 8:45 am]

BILLING CODE 4910-EX-P